DEPARTMENT OF ENERGY

Notice of Intent To Announce Financial Assistance for Weatherization Enhancement and Innovation

AGENCY: Office of Energy Efficiency and Renewable Energy, U.S. Department of Energy.

ACTION: Notice of intent.

SUMMARY: The U.S. Department of Energy's (DOE), Office of Energy Efficiency and Renewable Energy's (EERE), Weatherization Assistance Program (WAP) intends to issue a Funding Opportunity Announcement for Weatherization Enhancement and Innovation. Congress has directed DOE WAP in the Consolidated Appropriations Act of 2021, signed December 27, 2020, to implement Financial Assistance for Weatherization Enhancement and Innovation.

DATES: Written comments and information on this NOI are requested and will be accepted on or before July 30, 2021. The tentative release date for the funding opportunity announcement is planned for Fall 2021, with concept papers to be submitted in October 2021 and Full Applications to be submitted in December 2021. This FOA timeline is subject to change.

ADDRESSES: Interested persons are encouraged to submit comments by email to the following address: Brittany.Price@ee.doe.gov with the subject line “Announce Financial Assistance for Weatherization Enhancement and Innovation” included in the message. Submit electronic comments in WordPerfect, Microsoft Word, PDF, or ASCII file format, and avoid the use of special characters or any form of encryption. No telefacsimiles (faxes) will be accepted. For detailed instructions on submitting comments, see section III (Submission of Comments) of this document.

Although DOE has routinely accepted public comment submissions through a variety of mechanisms, including postal mail and hand delivery/courier, the Department has found it necessary to make temporary modifications to the comment submission process in light of the ongoing Covid-19 pandemic. DOE is currently accepting only electronic submissions at this time. If a commenter finds that this change poses an undue hardship, please contact the DOE staff person listed in this notice.

FOR FURTHER INFORMATION CONTACT: Questions may be directed to Brittany Price, U.S. Department of Energy, Office of Energy Efficiency and Renewable Energy, EE-5W, 1000 Independence Avenue SW, Washington, DC 20585-0121. Telephone: (240) 306-7252. Email: Brittany.Price@ee.doe.gov.

SUPPLEMENTARY INFORMATION: The U.S. Department of Energy's (DOE), Office of Energy Efficiency and Renewable Energy's (EERE), Weatherization Assistance Program (WAP) intends to issue a Funding Opportunity Announcement (FOA) to implement Financial Assistance for Weatherization Enhancement and Innovation, as directed by section 1011(e) of the Consolidated Appropriations Act, 2021, Public Law 116-260.

The purpose of this future FOA is to (1) expand the number of dwelling units that are occupied by low-income persons that receive weatherization assistance by making such dwelling units weatherization-ready; (2) promote the deployment of renewable energy in dwelling units that are occupied by low-income persons; (3) ensure healthy indoor environments by enhancing or expanding health and safety measures and resources available to dwellings that are occupied by low-income persons; (4) disseminate new methods and best practices among entities providing weatherization assistance, including enhanced client education; quality control of work performed; program monitoring; labor training; planning and administration; (5) encourage entities providing weatherization assistance to hire and retain employees who are individuals (A) from the community in which the assistance is provided; and (B) from communities or groups that are underrepresented in the home energy performance workforce, including religious and ethnic minorities, women, veterans, individuals with disabilities, and individuals who are socioeconomically disadvantaged; and (6) for such other activities as the Secretary determines to be appropriate. In 2021, WAP has reserved $18.6 million for award through a competitive process. WAP is developing the award scope and criteria with the intent to release the FOA in the Fall 2021. This notice is not the FOA.

It is anticipated that financial assistance for Weatherization Enhancement and Innovation will be made available each year through 2025, depending on appropriated funds from Congress. Funding is not to exceed 2 percent of WAP's allocation, if such amount is $225,000,000 or more but less than $260,000,000; 4 percent if such amount is $260,000,000 or more but less than $300,000,000; or 6 percent if such amount is $300,000,000 or more. Current WAP Grantees, Subgrantees and other nonprofit entities will be eligible to apply for awards, with a $2 million maximum award and three-year performance period. Listening Sessions were held in March 2021 to solicit input from WAP stakeholders regarding areas of interest and award factors to help inform the FOA development.

DOE welcomes written comments from the public on any subject within the scope of this NOI.

Public Participation

A. Submission of Comments

DOE will accept comments, data, and information regarding this notice no later than the date provided in the DATES section at the beginning of this notice. Interested parties may submit comments using any of the methods described in the ADDRESSES section at the beginning of this document.

Submitting comments via email. Comments and documents submitted via email will be posted to https://www.regulations.gov. If you do not want your personal contact information to be publicly viewable, do not include it in your comment or any accompanying documents. Instead, provide your contact information in a cover letter. Include your first and last names, email address, telephone number, and optional mailing address. The cover letter will not be publicly viewable as long as it does not include any comments.

Include contact information each time you submit comments, data, documents, and other information to DOE. No telefacsimiles (faxes) will be accepted.

Comments, data, and other information submitted to DOE electronically should be provided in PDF (preferred), Microsoft Word or Excel, WordPerfect, or text (ASCII) file format. Provide documents that are not secured, written in English, and free of any defects or viruses. Documents should not contain special characters or any form of encryption, and, if possible, they should carry the electronic signature of the author.

Campaign form letters. Please submit campaign form letters by the originating organization in batches of between 50 to 500 form letters per PDF or as one form letter with a list of supporters' names compiled into one or more PDFs. This reduces comment processing and posting time.

Confidential Business Information. Pursuant to 10 CFR 1004.11, any person submitting information that he or she believes to be confidential and exempt by law from public disclosure should submit via email two well-marked copies: One copy of the document marked “confidential” including all the information believed to be confidential, and one copy of the document marked “non-confidential” with the information believed to be confidential deleted. Submit these documents via email. DOE will make its own determination about the confidential status of the information and treat it according to its determination.

It is DOE's policy that all comments may be included in the public docket, without change and as received, including any personal information provided in the comments (except information deemed to be exempt from public disclosure).

Signing Authority

This document of the Department of Energy was signed on June 25, 2021, by Kelly Speakes-Backman, Principal Deputy Assistant Secretary and Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 25, 2021.
Treena V. Garrett,
Federal Register Liaison Officer, U.S. Department of Energy.

[FR Doc. 2021-13985 Filed 6-29-21; 8:45 am]

BILLING CODE 6450-01-P